DEPARTMENT OF LABOR

Mine Safety and Health Administration

Proposed Information Collection Request Submitted for Public Comment and Recommendations; Health Standards for Diesel Particulates (Underground Metal and Nonmetal Mines)

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

Currently, the Mine Safety and Health Administration (MSHA) is soliciting comments concerning the extension of the information collection related to the 30 CFR 57.5060, 57.5066, 57.5070, 57.5071, and 57.5075—Health Standards for Diesel Particulates (Underground Metal and Nonmetal Mines).

DATES: Submit comments on or before October 12, 2004.

ADDRESSES: Send comments to Melissa Stoehr, Acting Chief, Records Management Branch, 1100 Wilson Boulevard, Room 2134, Arlington, VA 22209-3939. Commenters are encouraged to send their comments on computer disk, or via E-mail to stoehr.melissa@dol.gov. Ms. Stoehr can be reached at (202) 693-9827 (voice), or (202) 693-9801 (facsimile).

FOR FURTHER INFORMATION CONTACT: Contact the employee listed in the ADDRESSES section of this notice.

SUPPLEMENTARY INFORMATION:

I. Background

These sections require mine operators to take certain actions to limit the concentration of diesel particulate matter (DPM) to which metal and nonmetal miners are exposed in underground areas of a mine where miners normally work or travel. If a mine has technological constraints in meeting this time requirement, then the mine operator can file a special extension application after January 19, 2006, under § 57.5060(c). Section 57.5071 requires mine operators to sample the air as often as necessary to determine that DPM concentrations do not exceed the limit. Also under this section, if a mine environment is above the DPM concentration limit, mine operators will have to take corrective actions and post the corrective actions taken. Mine operators must also provide adequate respiratory protection to overexposed miners and enroll them in a respiratory protection program until engineering and administrative controls are shown to be effective in limiting the DPM levels to the concentration limit.

Mine operators must also take certain actions to ensure that diesel-powered equipment is maintained and operated in a manner that will limit DPM exposures. Section 57.5066(b) requires mine operators to tag diesel-powered equipment at any time there is any apparent emission-related defect in the equipment. Each time that there is an emission related problem on a diesel-powered machine and the machine is tagged, there also must be a record made of the equipment tagged. For each diesel machine that has been tagged, an examination must be conducted concerning the tagged equipment and a record must be made of the examination. Section 57.5066(c) requires operators to assure that miners performing emissions-related maintenance have adequate training or experience concerning the maintenance of diesel powered equipment.

And, all miners at a mine who reasonably can expect to be exposed to diesel emissions on mine property must receive annual training in accordance with § 57.5070(a)(1) through (a)(4).

II. Desired Focus of Comments

MSHA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request can be obtained by contacting the employee listed in the For Further Information Contact section of this notice, or viewed on the Internet by accessing the MSHA home page (http://www.msha.gov) and then choosing “Statutory and Regulatory Information” and “Federal Register Documents.”

III. Current Actions

Under 30 CFR 57.5060, 57.5066, 57.5070, 57.5071, and 57.5075.

Type of Review: Extension.

Agency: Mine Safety and Health Administration.

Title: Health Standards for Diesel Particulates (Underground Metal and Nonmetal Mines).

OMB Number: 1219-0135.

Affected Public: Business or other for-profit.

Frequency: On occasion, semi-annually and quarterly.

Affected Public: Business or other for-profit.

Respondents: 196.

Total Burden Hours: 2,738.

Total Burden Cost (capital/startup): $0.

Total Burden Cost (operating/maintaining): $562,791.

Comments submitted in response to this notice will be summarized and/or included in the request for Office of Management and Budget approval of the information collection request; they will also become a matter of public record.

Dated at Arlington, Virginia, this 5th day of August, 2004.
Melissa Stoehr,
Acting Director, Office of Administration and Management.

[FR Doc. 04-18326 Filed 8-10-04; 8:45 am]

BILLING CODE 4510-43-P